DEPARTMENT OF COMMERCE

International Trade Administration

[A-533-877]

Stainless Steel Flanges From India: Notice of Amended Final Results of Antidumping Duty Administrative Review Pursuant to Settlement

AGENCY: Enforcement and Compliance, International Trade Administration, Department of Commerce.

SUMMARY: The U.S. Department of Commerce (Commerce) is issuing these amended final results pursuant to a settlement agreement with certain companies covered by the final results of the administrative review of stainless steel flanges from India for the period of review (POR) March 28, 2018, through September 30, 2019.

DATES: Applicable October 4, 2024.

FOR FURTHER INFORMATION CONTACT: Christopher Maciuba, AD/CVD Operations, Office V, Enforcement and Compliance, International Trade Administration, U.S. Department of Commerce, 1401 Constitution Avenue NW, Washington, DC 20230; telephone: (202) 482-0413.

SUPPLEMENTARY INFORMATION:

Background

On August 26, 2021, Commerce published the final results of its administrative review of the antidumping duty order on stainless steel flanges from India.¹ The administrative review covered 46 companies.² The following companies were among the 45 companies which were not selected for individual examination: Balkrishna Steel Forge Pvt. Ltd.; Bebitz Flanges Works Private Limited; ³ Echjay Forgings Private Ltd; Goodluck India Ltd; Hilton Metal Forging Limited; Jai Auto Pvt. Ltd.; Jay Jagdamba Forgings Private Limited; Jay Jagdamba Limited; Jay Jagdamba Profile Private Limited; Kisaan Die Tech; ⁴ Pradeep Metals Limited; and Shree Jay Jagdamba Flanges Pvt. Ltd. (collectively, the non-selected companies). The non-selected companies are all producers/exporters of stainless steel flanges from India. In the Final Results, Commerce assigned a margin of 145.25 percent to these companies for the POR because that was the margin assigned to the sole company which Commerce individually examined.⁵

¹ See Stainless Steel Flanges from India: Final Results of Antidumping Duty Administrative Review; 2018-2019, 86 FR 47619 (August 26, 2021) (Final Results).

² Id., 86 FR at 47619-21.

³ Bebitz Flange Works Private Limited is part of a collapsed entity with the following companies: Viraj Impoexpo, Ltd.; Flanschen werk Bebitz GmbH (AKA Flanschenwerk Bebitz GmbH); Viraj Alloys, Ltd.; Viraj Forgings, Ltd.; and Viraj Profiles Limited. See Stainless Steel Flanges from India: Final Affirmative Determination of Sales at Less Than Fair Value and Final Affirmative Critical Circumstance Determination, 83 FR 40745 (August 16, 2018). In a subsequent administrative review, Commerce found BFN Forgings Private Limited to be a successor-in-interest to Bebitz Flange Works Private Limited. See Stainless Steel Flanges from India: Final Results of Antidumping Duty Administrative Review; 2019-2020, 87 FR 27568, 27569 n.13 (May 9, 2022) (2019-2020 Final Results).

⁴ Commerce considers Kisaan Die Tech to be the same company as Kisaan Die Tech Private Limited. See Stainless Steel Flanges from India: Preliminary Results of Antidumping Duty Administrative Review, Preliminary Successor-in-Interest Determination, and Partial Rescission; 2019-2020, 86 FR 60792, n.3 (November 4, 2021), unchanged in 2019-2020 Final Results.

⁵ See Final Results, 86 FR at 47620-21.

Following the publication of the Final Results, the non-selected companies filed a lawsuit with the U.S. Court of International Trade (CIT) challenging Commerce's decision to assign a dumping margin which was determined using facts available with adverse inferences for the sole mandatory respondent to all non-selected companies.⁶

⁶ See Kisaan Die Tech Private Limited v. United States, Consol. Court No. 21-000512, Slip Op. No. 23-172 (Dec. 8, 2023) at 5.

On September 30, 2024, the United States and the non-selected companies entered into an agreement to settle this dispute. Pursuant to the terms of the settlement and the stipulation for entry of judgment, the amended dumping margins for the non-selected companies are set forth below in the “Amended Final Results of Administrative Review” section of this notice. The CIT issued its order of judgment by stipulation on September 30, 2024.⁷

⁷ See Kisaan Die Tech Private Limited v. United States, Consol. Court No. 21-000512, ECF No. 85 (September 30, 2024).

Amended Final Results of Administrative Review

The non-selected companies' final estimated weighted-average dumping margins are listed below for POR, March 28, 2018, through September 30, 2019.

Exporter/producer | Weighted average dumping margin (percent)
Balkrishna Steel Forge Pvt. Ltd | 5.20
Bebitz Flanges Works Private Limited/Viraj Impoexpo, Ltd./Flanschen werk Bebitz GmbH/Viraj Alloys, Ltd./Viraj Forgings, Ltd./Viraj Profiles Limited * | 74.30
Echjay Forgings Private Ltd | 1.70
Goodluck India Ltd | 5.20
Hilton Metal Forging Limited | 5.20
Jai Auto Pvt. Ltd | 5.20
Jay Jagdamba Forgings Private Limited | 5.20
Jay Jagdamba Limited | 5.20
Jay Jagdamba Profile Private Limited | 5.20
Kisaan Die Tech ** | 4.13
Pradeep Metals Limited | 5.20
Shree Jay Jagdamba Flanges Pvt. Ltd | 5.20
* AKA BFN Forgings Private Limited.
** AKA Kisaan Die Tech Private Limited.

Assessment Rates

Consistent with the settlement agreement and September 30, 2024, order of judgment by stipulation, Commerce will instruct U.S. Customs and Border Protection (CBP) within 15 days following publication of these amended final results to liquidate all unliquidated entries of stainless steel flanges from India produced and/or exported by the non-selected companies and entered, or withdrawn from consumption in the United States during the POR, at the assessment rates noted above. Pursuant to section 751(a)(2)(C) of the Tariff Act of 1930, as amended (the Act), and 19 CFR 351.212(b)(1), Commerce has determined, and CBP shall assess, antidumping duties on all appropriate entries of subject merchandise in accordance with these amended final results of review.

Cash Deposit Requirements

Because all of the non-selected companies have a superseding cash deposit rate, i.e., there have been final results published in a subsequent administrative review, we will not issue revised cash deposit instructions to CBP. This notice will not affect the current cash deposit rates for the non-selected companies.

Notification to Interested Parties

We are issuing this determination and publishing these amended final results and notice in accordance with section 516a(e) of the Act.

Dated: September 30, 2024.
Steven Presing,
Acting Deputy Assistant Secretary for Policy and Negotiations.

[FR Doc. 2024-22972 Filed 10-3-24; 8:45 am]

BILLING CODE 3510-DS-P